DEPARTMENT OF COMMERCE

Census Bureau

Agency Information Collection Activities; Submission to the Office of Management and Budget (OMB) for Review and Approval; Comment Request; Construction Progress Reporting Surveys

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 27, 2021 during a 60-day comment period. This notice allows for an additional 30 days for public comments.

Agency: U.S. Census Bureau, Commerce.

Title: Construction Progress Reporting Surveys.

OMB Control Number: 0607-0153.

Form Number(s): C-700, C-700(R), C-700(SL), C-700(F).

Type of Request: Regular submission, Request for an Extension, without change of a currently approved collection.

Number of Respondents: 22,000.

Average Hours per Response: Respondents will each complete 12 monthly reports on average. We estimate it will take 30 minutes to complete the survey the first month and 10 minutes each remaining month that the project is under construction.

Burden Hours: 51,333.

Needs and Uses: The Construction Progress Reporting Surveys (CPRS) collect information on the dollar value of construction put in place on non-residential building projects under construction by private companies or individuals, private multifamily residential buildings, and building projects under construction by federal and state and local governments.

Form C-700 is used to collect data on the construction of privately-owned nonresidential buildings and structures. Form C-700(R) is used to collect data on privately-owned residential building projects with two or more housing units. Form C-700(SL) is used to collect data on state and local government construction projects. Form C-700(F) is used to collect data on federal government construction projects.

The Census Bureau uses the information collected on these forms to publish estimates of the monthly dollar value of construction put in place. Statistics from the CPRS become part of the monthly “Value of Construction Put in Place” or “Construction Spending” series, a Principal Economic Indicator. Published estimates are used by a variety of private business and trade associations to estimate the demand for building materials and to schedule production, distribution, and sales efforts. They also provide various government agencies with a tool to evaluate economic policy. For example, Bureau of Economic Analysis staff use data to develop the construction components of gross private domestic investment in the gross domestic product. The Federal Reserve Board and the Department of the Treasury use the value put in place data to predict the gross domestic product, which is presented to the Board of Governors and has an impact on monetary policy.

Affected Public: Business or other for-profit organizations; Not-for-profit institutions; State, Local, or Tribal government; Federal government.

Frequency: Monthly.

Respondent's Obligation: Voluntary.

Legal Authority: Title 13, United States Code, Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0153.

Sheleen Dumas,
Department PRA Clearance Officer, Office of the Chief Information Officer, Commerce Department.

[FR Doc. 2021-25517 Filed 11-22-21; 8:45 am]

BILLING CODE 3510-07-P